INTERNATIONAL TRADE COMMISSION

[Investigation Nos. 701-TA-490 and 731-TA-1204 (Preliminary)]

Hardwood Plywood From China

Determinations

On the basis of the record ¹ developed in the subject investigations, the United States International Trade Commission (Commission) determines, pursuant to sections 703(a) and 733(a) of the Tariff Act of 1930 (19 U.S.C. 1671b(a) and 1673b(a)) (the Act), that there is a reasonable indication that a U.S. industry is materially injured by reason of imports of hardwood plywood from China that are allegedly subsidized and sold in the United States at less than fair value, provided for in subheadings 4412.10, 4412.31, 4412.32, 4412.39, 4412.94, and 4412.99 of the Harmonized Tariff Schedule of the United States.

¹ The record is defined in sec. 207.2(f) of the Commission's Rules of Practice and Procedure (19 CFR § 207.2(f)).

Pursuant to section 207.18 of the Commission's rules, the Commission also gives notice of the commencement of the final phase of its investigations. The Commission will issue a final phase notice of scheduling, which will be published in the Federal Register as provided in section 207.21 of the Commission's rules, upon notice from the Department of Commerce (Commerce) of an affirmative preliminary determination in the investigations under sections 703(b) or 733(b) of the Act, or, if the preliminary determinations are negative, upon notice of an affirmative final determination in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 27, 2012, a petition was filed with the Commission and Commerce by Columbia Forest Products, Greensboro, NC; Commonwealth Plywood Co., Ltd., Whitehall, NY; Murphy Plywood, Eugene, OR; Roseburg Forest Products Co., Roseburg, OR; States Industries LLC, Eugene, OR; and Timber Products Company, Springfield, OR combined as The Coalition for Fair Trade of Hardwood Plywood, alleging that an industry in the United States is materially injured by reason of LTFV and subsidized imports of hardwood plywood from China. Accordingly, effective September 27, 2012, the Commission instituted countervailing duty investigation No. 701-TA-490 and antidumping duty investigation No. 731-TA-1204 (Preliminary).

Notice of the institution of the Commission's investigations and of a public conference to be held in connection therewith was given by posting copies of the notice in the Office of the Secretary, U.S. International Trade Commission, Washington, DC, and by publishing the notice in the Federal Register of October 3, 2012 (77 FR 60460). The conference was held in Washington, DC, on October 18, 2012, and all persons who requested the opportunity were permitted to appear in person or by counsel.

The Commission transmitted its determinations in these investigations to the Secretary of Commerce on November 13, 2012. The views of the Commission are contained in USITC Publication 4361 (November 2012), entitled Hardwood Plywood from China: Investigation Nos. 701-TA-490 and 731-TA-1204 (Preliminary).

By order of the Commission.
Issued: November 23, 2012.
Lisa R. Barton,
Acting Secretary to the Commission.

[FR Doc. 2012-28818 Filed 11-27-12; 8:45 am]

BILLING CODE 7020-02-P